DEPARTMENT OF LABOR

Employment and Training Administration

[TA-W-57,476]

Menasha Packaging Company, Otsego Mill, Otsego, MI; Notice of Termination of Investigation

Pursuant to Section 221 of the Trade Act of 1974, as amended, an investigation was initiated on June 29, 2005 in response to a petition filed by a company official on behalf of workers at Menasha Packaging Company, Otsego Mill, Otsego, Michigan.

The petitioner has requested that the petition be withdrawn. Consequently, further investigation would serve no purpose, and the investigation has been terminated.

Signed at Washington, DC, this 1st day of July, 2005.
Linda G. Poole,
Certifying Officer, Division of Trade Adjustment Assistance.

[FR Doc. E5-3844 Filed 7-19-05; 8:45 am]

BILLING CODE 4510-30-P